DEPARTMENT OF HEALTH AND HUMAN SERVICES

Indian Health Service

Epidemiology Grant Program for American Indians/Alaska Natives; Notice of Competitive Cooperative Agreement Applications

Funding Opportunity Number: HHS-IHS-EPID-2004-0001.

CFDA Number: 93.231.

Dates:

Application Deadline: July 30, 2004.

Application Review: August 16, 2004.

Applicants Notified of Results: On or about September 1, 2004 (approved, recommended for approval but not funded, or disapproved).

Anticipated Award Start Date: September 15, 2004.

I. Funding Opportunity Description

The Indian Health Service (HHS) announces that competitive cooperative agreement applications are now being accepted for the Epidemiology Grant Program for American Indians/Alaska Natives and Urban Indian communities. These cooperative agreements are established under the authority of section 214(a)(1) of the Indian Health Care Improvement Act, Pub. L. 94-437, as amended by Pub. L. 102-573. There will be only one funding cycle during Fiscal Year (FY) 2004. These cooperative agreements will be awarded and administered in accordance with this announcement, Department of Health and Human Service (HHS) at 45 CFR part 92, HHS Uniform Administrative Requirements for Grants and Cooperative Agreements to State, local, and tribal governments, or 45 CFR part 74, Uniform Administrative Requirements for Awards and Subawards to Institutions of Higher Educations, Hospitals, Other Nonprofit Organizations, and Commercial Organizations; the Public Health Service (PHS) Grant Policy Statement; and applicable Office of Management and Budget Circulars.

The PHS urges applicants submitting applications to address specific objectives of Healthy People 2010. Interested applicants may obtain a copy of Healthy People 2010 (Summery Report in print; Stock No. 017-001-00547-9) or CD-ROM (Stock No. 107-001-00549-5) through the Superintendent of Documents, Government Printing Office, P.O. Box 371954, Pittsburgh, Pennsylvania, 15250-7945, or (202) 512-1800. You may access this information via the Internet at the following Web site: www.health.gov/healthypeople/publications/.

The purpose of this grant program is to develop Tribal Epidemiology Centers and public health infrastructure through the augmentation of existing programs with expertise in epidemiology and a history of regional support. Activities should include, but not be limited to enhancement of surveillance for disease conditions; epidemiologic analysis, interpretation, and dissemination of surveillance data; investigation of disease outbreaks; development and implementation of epidemiologic studies; development and implementation of disease control and prevention programs; and coordination of activities with other public health authorities in the region. Proposed activities that cover large populations and/or geographical areas that do not necessarily correspond with current IHS administrative areas are encouraged.

In conducting activities to achieve the purpose of this program, the recipient will be responsible for the activities under 1. (Recipient Activities), and IHS will be responsible for conducting activities under 2. (IHS Activities).

1. Recipient Activities

a. Assist AI/AN communities, tribal organizations, and urban Indian organizations in implementing and enhancing disease surveillance systems and identifying their highest priority health status objectives based on epidemiologic data. Collect data relating to, and monitor progress made toward meeting each of the health status objectives of IHS, the AI/AN communities, tribal organizations, and urban Indian organizations in the region. Assist and facilitate reporting of nationally notifiable disease conditions to public health authorities in the region.

b. Participate in the development of systems for sharing, improving, and disseminating aggregate health data at a national level for purposes of advocacy for AI/AN communities, Government Performance Result Act, Healthy People 2010, and other national-level activities.

c. Collaborate with national DHHS programs in the development of standardized surveillance and data monitoring methods and data sets.

d. Support responses to public health emergencies in collaboration with the IHS National Epidemiology Program, local, tribal, State, and other Federal health authorities.

e. Develop and implement epidemiologic studies that have practical application in improving the health status of constituent communities. Studies may require Institutional Review Board approval if human subjects are involved.

f. Develop and implement disease control and prevention programs in cooperation with other public health entities. Make recommendations for targeting of public health services needed by constituents.

Ensure the coordination of services and program activities with other similar programs and establish abroad-based council to advise and support the program. Such an advisory council would consist of technical experts in epidemiology and public health, community members, health care providers, and others who could provide overall program direction and guidance.

2. IHS Activities

a. Convene a workshop of funded organizations every year for information-sharing and problem-solving.

b. Provide funded organizations with ongoing consultation and technical assistance to plan, implement, and evaluate each component of the comprehensive program as described under Recipient Activities above. Consultation and technical assistance will include, but not be limited to the following areas:

(1) Interpretation of current scientific literature related epidemiology, statistics, surveillance, Healthy People 2010 Objectives, and other disease control activities;

(2) Design and implementation of each program component (surveillance, epidemiologic analysis, outbreak investigation, development of epidemiologic studies, development of disease control programs, and coordination of activities); and

(3) Overall operational planning and program management.

Provide opportunities for training fellowships at the Epidemiology Program, IHS, if funds permit.

c. Conduct site visits to assess program progress and mutually resolve problems, as needed, and/or coordinate reverse site visits to IHS in Albuquerque, NM.

d. At the request of the applicant, and if available, assign Federal personnel to a project in lieu of a portion of the financial assistance.

e. Coordinate all epidemiologic activities on a national basis.

II. Award Information

American Indian/Alaska Native tribes, tribal organizations, and eligible intertribal consortia or Indian organizations, may be eligible for a cooperative agreement. Such entities must represent or serve a population of at least 60,000 AI/AN to be eligible. An intertribal consortium or AI/AN organization is eligible to receive a cooperative agreement if it is incorporated for the primary purpose of improving AI/AN health, and it is representative of the tribes, AN villages, or urban Indian communities in which it is located. Collaborations with regional IHS, CDC, State, or university organizations are encouraged (letters of support and collaboration should be included in the application).

The following documentation is required:

1. Tribal Resolution—(a) A signed and dated resolution supportive of the epidemiology cooperative agreement proposal from the Indian tribe(s) served by the project must accompany the application; (b)—applications must include resolutions from all tribes to be served; and (c) applications by tribal organizations will not require a specific tribal resolution(s) if the current blanket tribal resolution(s) under which they operate would encompass the proposed activities and project type.

2. Non-profit organization—copy of 501(c)(3) non-profit certificate.

As part of an effort to establish Epidemiology Centers throughout the nation these funds initially will be used to support activities on a regional basis. Priority will be given to applicants proposing to provide services to large regions consisting of more than a single IHS administrative Area. Priority will also be given to proposals demonstrating evidence of meaningful past and current epidemiologic activities. Collaborative efforts among tribal, local, State, Federal, and university health organizations are encouraged.

It is anticipated that up to approximately $300,000 will be available to fund one award, and if additional funds are identified other awards will be made based on the application scoring level. Although it is expected that project funding needs will vary depending on the scope of work, the anticipated initial funding range, inclusive of direct and indirect costs, is $200,000 to $300,000. If additional funds become available, awardees who were originally funded at levels lower than requested may receive additional funding. Applicants who may be approved but unfunded during the initial round of awards may be eligible for consideration in later funding cycles without further review. At the request of the applicant, Federal personnel, if available, may be assigned to a project in lieu of a portion of the financial assistance. Only one project cooperative agreement will be awarded per Indian tribe or tribal or Indian health organization.

Limitations—only one cooperative agreement project will be awarded per tribe, tribal or Indian organization, or intertribal consortia.

Period of support—Projects will be funded for annual budget periods with project periods of up to two years, dependent upon the scope of work. The continuation years will be based on the following: (1) Satisfactory progress; (2) availability of funds; and (3) continuing need of the IHS for the program.

The projects under this announcement will be awarded as cooperative agreements. Because of the nature of these projects, they will require collaboration with the IHS National Epidemiology Program to: (1) Coordinate activities; (2) participate in projects, investigations, or studies of national scope; and (3) share surveillance and other data collected, in compliance with the Federal Privacy Act, Health Insurance Portability & Accountability Act, or similar tribal laws. The IHS will, therefore, have substantial programmatic involvement in these projects (see IHS Activities above).

III. Eligibility Information

1. Eligible Applicants

American Indian/Alaska Native tribes, tribal organizations, and eligible intertribal consortia or Indian organizations, may be eligible for a cooperative agreement. Such entities must represent or serve a population of at least 60,000 AI/AN to be eligible. An intertribal consortium or AI/AN organization is eligible to receive a cooperative agreement if it is incorporated for the primary purpose of improving AI/AN health, and it is representative of the tribes, AN villages, or urban Indian communities in which it is located. Collaborations with regional IHS, CDC, State, or university organizations are encouraged (letters of support and collaboration should be included in application).

2. Cost Sharing or Matching

Cost Sharing or Matching is not required for this application.

IV. Application and Submission Information

1. Address to Request Application—An application kit, including the required PHS 5161-1 (Rev. 7/00) (OMB Approval No. 0348-0043) and the U.S. Government Standard Forms (SF-424, SF-424A and SF-424B), may be obtained from the grants Management Branch, Division of Acquisition and Grants Operations, IHS, Twinbrook Metro Plaza, Suite 100, 12300 Twinbrook Parkway, Rockville, MD 20852, telephone (301) 443-5204. (The telephone number is not toll-free.)

2. Content and Form of Application Submission—All applications must be double-spaced, typewritten, and have consecutively numbered pages using black type not smaller than 12 characters per inch, with conventional one-inch border margins, on only one side of standard size 8.5 x 11 paper that can be photocopied. The application narrative (not incoluding Abstract, Tribal Resolution, Standard Forms, Table of Contents or the Attachments must not exceed 25 typed pages as described above. All applications must include the following in order presented:

• Tribal Resolution(s) and documentation.

• Standard Form 424, Application for Federal Assistance.

• Standard Form 424A, Budget Information—Non-Construction Programs (pages 1 and 2).

• Standard Form 424B, Assurances—Non-Construction Programs (front and back).

• Certification (pages 17-19).

• Checklist (pages 25-26). Note: Each standard form and the checklist is contained in the PHS Grant Application, Form PHS 5161-1 (Revised 7/00).

• A one-page project Executive Summary.

• A Table of Contents.

• Introduction and Need for Assistance.

• Project Objective(s), Approach and Results & Benefits.

• Project Evaluation.

• Organizational Capabilities and Qualifications.

• Budget.

• Multi-Year Narratives and Budget Justifications.

• Attachments to include:

• Resumes of key staff.

• Position descriptions for key staff.

• Organizational chart.

• All letters of support from potential collaborators.

• Copy of current negotiated indirect cost rate agreement.

• A map of the area to benefit from the project.

• Application Receipt Card, IH-815-1A.

3. Submission Dates and Times

Application Receipt Date—An original and two copies of the completed grant application must be submitted with all required documentation to the Grants Management Branch, Division of Acquisition and Grants Operations, Twinbrook Metro Plaza, Suite 100, 12300 Twinbrook Parkway, Rockville, Maryland 20852, by close of business July 30, 2004.

Applications shall be considered as meeting the deadline if they are either: (1) Received on or before the deadline with hand carried applications received by close of business 5 p.m.; or (2) postmarked on or before the deadline and received in time to be reviewed along with all other timely applications. A legibly dated receipt from a commercial carrier or the U.S. Postal Service will be accepted in lieu of a postmark. Private metered postmarks will not be accepted as proof of timely mailing. IHS will not acknowledge receipt of applications. Only applications received via the U.S. Postal Service or an overnight shipper, e.g., FedEx, UPS, etc., will be accepted. Late applications not accepted for processing will be returned to the applicant and will not be considered for funding.

4. Intergovernmental Review

Executive Order 12372 requiring intergovernmental review is not applicable to this program.

5. Funding Restrictions

Maximum award amount is $300,000 per year.

6. Other Submission Requirements

Beginning October 1, 2003, applicants were required to have a Dun and Bradstreet (DUNS) number to apply for a grant or cooperative agreement from the Federal Government. The DUNS number is a nine-digit identification number which uniquely identifies business entities. Obtaining a DUNS number is easy and there is no charge.

To obtain a DUNS number, access Dun and Bradstreet online at http://www.dunandbradstreet.com or call 1-866-705-5711. Internet applications for a DUNS number can take up to 30 days to process. Interested parties may wish to obtain one by phone to expedite the process. The following information is needed when requesting a DUNS number:

• Organization name.

• Organization address.

• Organization telephone number.

• Name of CEO, Executive Director, President, etc.

• Legal structure of the organization.

• Year organization started.

• Primary business (activity) line.

• Total number of employees.

V. Application Review Information

The instructions for preparing the application narrative also constitute the evaluation criteria for reviewing and scoring the application. Weights assigned each section are noted in parenthesis.

Executive Summary—The Executive Summary may not exceed one typewritten page. It should clearly present the application in summary form, from a “who-what-when-where-how-cost” point of view so that reviewers see how the multiple parts of the application fit together to form a coherent whole.

Table of Contents—Provide a one page typewritten table of contents.

Narrative: Please describe the complete project in clear and succinct language as application reviewers may have little or no knowledge of the Tribe or Tribal organization. It should not exceed 25 double spaced pages, and address the following:

1. Criteria

Introduction, Current Capacity, and Need for Assistance (25 Points)

a. Describe the tribe's current health operation including the population to be served by management of tribal health programs and the number of eligible beneficiaries, whether the tribe has a health department, how long it has been operating, and what programs or services are currently provided. Specifically describe current epidemiologic capacity and history of support for such activities.

b. Provide a precise location of the project and area to be served by the proposed project including a map (include the map in the attachments).

c. Identify the type of project.

d. Explain the reason for the project.

e. Describe the relationship between this project and other federally funded work planned, anticipated, or underway.

f. Identify all previous and/or current TMGs received, dates of funding, and project accomplishments (do not include copies of reports).

Project Objective(s), Approach and Results and Benefits (25 Points)

a. State in measurable and realistic terms the objectives and appropriate activities to achieve each objective for the project.

b. Identify the expected results, benefits, and outcomes or products to be derived from each objective of the project.

c. Include a work plan for each objective that indicates when the objectives and major activities will be accomplished and who will conduct the activities on a calendar time line.

d. If use of consultants or contractors are proposed or anticipated, provide a detailed scope of work that clearly defines the deliverables or outcomes anticipated.

e. Specify who will review and accept the work to be performed by consultants or contractors.

Project Evaluation (10 Points)

a. State how it will be determined if the project's objectives were achieved and how the accomplishment of those objectives can be attributed to the project.

b. Define the criteria to be used to evaluate results and benefits.

c. Explain the methodology that will be used to determine if the needs identified for the project are being met and if the project's outcomes identified are being achieved.

Organization Capabilities and Qualifications (25 points)

a. Explain the management and administrative structure of the organization including documentation of current certified financial management systems from the BIA, IHS, or a Certified Public Accountant and an updated organizational chart (include documentation and the organizational chart in the attachments).

b. Describe the ability of the organization to manage a project of the proposed scope.

c. Provide position descriptions and resumes of key personnel, including those of consultants or contractors in the Appendix. Position descriptions should very clearly describe each position and its duties, indicating desired qualifications and experience requirements related to the project. Resumes should indicate that the proposed staff are qualified to carry out the project activities.

Budget (15 points)

a. Provide a detailed budget for the budget period required.

b. Provide a justification for each line item in the budget including sufficient cost and other details to facilitate the determination of cost allowability and relevance of these costs to the proposed project. The funds requested should be appropriate and necessary for the scope of the project.

c. Describe where the project will be housed, i.e., facilities and equipment available.

d. If indirect costs are claimed, applicant must submit a copy of the Indirect Cost Rate Agreement supporting this claim in the attachments.

Attachments—to include:

• Resumes and job descriptions for key staff.

• Current approved organizational chart.

• Copy of current negotiated indirect cost rate agreement.

• A map of the Area to benefit from the project.

• Application Receipt card, #IHS-815-1A.

• Letters of support/collaboration.

2. Review and Selection Process

Applications submitted by the closing date and verified by the postmark under this program announcement will undergo a review to determine that:

a. The applicant is eligible in accordance with the Eligibility Section of this application.

b. The application executive summary, forms and materials submitted are adequate to allow the review panel to undertake an in-depth evaluation.

c. The application complies with this announcement; otherwise it will be returned without consideration.

Competitive Review of Accepted Applications

Applications meeting eligibility requirements that are complete, responsive, and conform to this program announcement will be reviewed for merit by an Ad Hoc Objective Review Committee (ORC) appointed by the IHS to review and to make recommendations on these applications. The review will be conducted in accordance with the IHS objective review procedures. The technical review process ensures selection of quality projects in a national competition for limited funding. The ORC will include at least 60 percent non-IHS, Federal or non-Federal individuals. Applications will be evaluated and rated on the basis of the application announcement criteria listed above. These criteria are used to evaluate the quality of a proposed project, to assign a numerical score to each application, and to determine the likelihood of its success. Applications will be funded in accordance with scores and funds available.

3. Results of the Review

The results of the objective review are forwarded to the Director, Office of Public Health, for final review and approval. The Director, OPH, will also consider recommendations from the Epidemiology Program and Grants Management Branch. After the Director, OPH, has made decisions on all applications, applicants are notified in writing within approximately 90 days of the closing date. Unsuccessful applicants will be notified in writing of disapproval. A brief explanation of the reasons why the application was not approved will be provided along with the name of the IHS official to contact if more information is desired.

VI. Award Administration Information

1. Award Notices

Successful applicants are notified through the official Notice of Cooperative Agreement (NCA) document. The NCA will state the amount of Federal funds awarded, the purpose of the cooperative agreement, the terms and conditions of the award, the effective date, the project, and budget period.

2. Administration and National Policy Requirements

Cooperative Agreement Administration Requirements: Cooperative agreements are administered in accordance with the following documents:

a. 45 CFR part 92, HHS Uniform Administrative Requirements for Grants and Cooperative Agreements to State, local, and tribal governments or 45 CFR part 74, Uniform Administrative Requirements for Awards and Subawards to Institutions of Higher Education, Hospitals, Other Nonprofit Organizations, and Commercial Organizations;

b. PHS Grants Policy Statement;

c. Appropriate Cost Principles: OMB Circulars A-87 “State and Local Governments,” or OMB Circular A-122 “Non-Profit Organizations”; and

d. OMB Circular A-133 “Audits of States, Local Governments, and Non-Profit Organizations.”

e. A-102, Grants and Cooperative Agreements with State and Local Governments.

f. A-110; Uniform Administrative Requirements for Grants and Other Agreements with Institutions of Higher Education, Hospitals, and Other Nonprofit Organizations.

3. Reporting Requirements

a. Progress Report—Program progress reports may be required semi-annually. These reports will include a brief description of a comparison of actual accomplishments to the goals established for the period, reasons for slippage, and other pertinent information as required. A final report is due 90 days after expiration of the project/budget period.

b. Financial Status Report—Semi-annually financial status reports will be submitted 30 days after the end of the half year. Final financial status reports are due 90 days after expiration of the project/budget period. Standard Form 269 (long form) will be used for financial reporting.

VII. Agency Contacts

For Epidemiology Program information, contact Dr. James Cheek (james.cheek@ihs.gov) or Dr. Nathaniel Cobb (nathaniel.cobb@ihs.gov), National Epidemiology Program, Indian Health Service, 5300 Homestead Road, NE., Albuquerque, NM 87110, (505) 837-4132, fax (505) 248-4393. For grant application and business management information, contact Ms. Martha Redhouse, Grants Management Branch, Indian Health Service, Twinbrook Metro Plaza, Suite 100, 123000 Twinbrook Metro Plaza, Rockville, Maryland 20852, (301) 443-5204. (The telephone numbers are not toll-free.)

Dated: June 21, 2004.
Charles W. Grim,
Assistant Surgeon General, Director, Indian Health Service.

[FR Doc. 04-14647 Filed 6-28-04; 8:45 am]

BILLING CODE 4160-16-M